SMALL BUSINESS ADMINISTRATION

Public Federal Regulatory Enforcement Fairness Hearing; U.S. Small Business Administration Region VI Regulatory Fairness Board

The U.S. Small Business Administration (SBA) Region VI Regulatory Fairness Board and the SBA Office of the National Ombudsman will hold a public hearing on Tuesday, May 16, 2006, at 9 a.m. The meeting will take place at the South West Texas Border—Small Business Development Center, University of Texas at San Antonio, 501 West Durango Boulevard, Durango Building, Room #2.316, San Antonio, TX 78207-4415. The purpose of the meeting is to receive comments and testimony from small business owners, small government entities, and small non-profit organizations concerning regulatory enforcement and compliance actions taken by Federal agencies.

Anyone wishing to attend or to make a presentation must contact Lucille Maldonado, in writing or by fax, in order to be put on the agenda. Lucille Maldonado, Public Information Officer, SBA, San Antonio District Office, 17319 San Pedro, Suite 200, phone (210) 403-5921, Ext. 374, fax (202) 481-4288, e-mail: lucille.maldonado@sba.gov.

For more information, see our Website at http://www.sba.gov/ombudsman.

Matthew K. Becker,
Committee Management Officer.

[FR Doc. E6-6693 Filed 5-2-06; 8:45 am]

BILLING CODE 8025-01-P